DEPARTMENT OF DEFENSE

Office of the Secretary

[Docket ID: DOD-2025-OS-0772]

Proposed Collection; Comment Request

AGENCY: Office of the Under Secretary of Defense for Personnel and Readiness, (OUSD(P&R)), Department of Defense (DoD).

ACTION: 60-Day information collection notice.

SUMMARY: In compliance with the Paperwork Reduction Act of 1995, the OUSD(P&R), announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by February 9, 2026.

ADDRESSES: You may submit comments, identified by docket number and title, by any of the following methods:

Federal eRulemaking Portal: http://www.regulations.gov. Follow the instructions for submitting comments.

Mail: Department of Defense, Privacy, Civil Liberties, and Transparency Directorate, Office of the Director of, Administration & Management, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Lisa Davis, Deputy Director Health and Resilience, 4800 Mark Center Drive, Suite 06E22, Alexandria VA 22350-4000, elizabeth.h.davis18.civ@mail.mil, 703-338-8926.

SUPPLEMENTARY INFORMATION: In March 2019, Acting Secretary of Defense Patrick Shanahan requested the DoD to form a team of experts to “take a fresh look” at issues involving the sexual assault investigative and accountability process. The DoD established the Sexual Assault Accountability and Investigation Task Force (SAAITF) to identify, evaluate, and make recommendations to improve the investigation and accountability process. As part of this effort, the 2019 SAAITF report called for a “standardized survey of victim experiences, attitudes, and satisfaction.” The Sexual Violence Support and Experiences Study (SVSES) meets this requirement and will allow the DoD Sexual Assault Prevention and Response Office, other DoD policy offices, and the military Services to use the input of military members to inform improvements to the response system and to address challenges military members face during the military investigation and accountability process.

Title; associated form; and OMB Number: Sexual Violence Support and Experience Study (SVSES); OMB Control Number 0704-0647.

Needs and Uses: Information from the SVSES will be used by the OUSD(P&R) policy offices, and the Military Departments to improve personnel policies, programs, practices, and training related to sexual assault response and accountability systems in the military. It will provide the policy offices of the OUSD(P&R) with current data on (1) Service member satisfaction with sexual assault support resources; (2) the impact that the military support and justice processes have on Services Members who experience sexual assault during military service (e.g., their psychological health and well-being); and (3) aspects of the military support and justice process that relate to retention intention, career progression, and separation from military service.

Any Service member (Active or Reserve component) who has experienced sexual assault since joining the military will be eligible to participate in the study. Recruitment for the SVSES will include proactive outreach to Service members who previously filed an unrestricted report for sexual assault and Service members who requested to learn more about the study. The Office of People Analytics (OPA) will administer the SVSES via the web. The survey will be administered online via proprietary software developed by OPA's operations contractor. To reduce respondent burden, these online surveys will use “smart skip” technology to ensure respondents only answer questions that are applicable to them.

Information from the SVSES will be used by OUSD(P&R) policy offices, and the Military Departments for program evaluation and to assess and improve personnel policies, programs, practices, and training related to sexual assault in the military. The study will not produce generalizable statistics or findings; rather, it will inform policy and program offices within the DoD about Service member satisfaction with sexual assault response resources and processes and the sexual assault accountability system. OPA will provide interim reports regarding the findings of the study to OUSD(P&R) policy offices on an annual basis and a full report on a biennial basis. Data from the SVSES will also be used in future analyses.

Affected public: Individuals and households.

Annual burden hours: 300.

Number of respondents: 300.

Responses per respondent: 4.

Annual responses: 1,200.

Average burden per response: 15 minutes.

Frequency: Quarterly.

Dated: December 5, 2025.
Stephanie J. Bost,
Alternate OSD Federal Register Liaison Officer, Department of Defense.

[FR Doc. 2025-22357 Filed 12-8-25; 8:45 am]

BILLING CODE 6001-FR-P